DEPARTMENT OF AGRICULTURE

Forest Service

Notice of Intent To Issue Forest Order Closing Areas Along the Wildland Urban Interface on the Eastern Side of the Huachuca Mountains to Recreational Shooting

AGENCY: Forest Service, Agriculture, (USDA).

ACTION: Notice.

SUMMARY: The Forest Service, U.S. Department of Agriculture, is giving notice of its intent to issue a forest order closing areas in proximity to canyon roads on the eastern side of the Huachuca Mountains in the vicinity of the City of Sierra Vista, Fort Huachuca, and the communities of Hereford and Palominas, Arizona to recreational shooting in advance of the public comment period for the proposed closure. At the end of the period of advance notice, the Forest Service will solicit public comments, as specified in this notice, on the proposed forest order.

DATES: Advance notice of the opportunity to provide public comment on a proposed recreational shooting order is being provided until September 17, 2021. Beginning on September 17, 2021, the Forest Service will accept comments on the proposed forest order for 60 days. The notice of opportunity for public comment will be posted on the Coronado National Forest web page at https://www.fs.usda.gov/coronado/ and at the Forest Service's website at www.fs.usda.gov/about-agency/regulations-policies.

ADDRESSES: The proposed forest order and the justification for the forest order are available on the Coronado National Forest web page https://www.fs.usda.gov/coronado/ and at the Forest Service's website at www.fs.usda.gov/about-agency/regulations-policies or can be viewed at the Sierra Vista Ranger District Office, Coronado National Forest, 4070 S Avenida Saracino, Hereford, AZ 85615. Please call ahead to ensure access: 520-378-0311.

FOR FURTHER INFORMATION CONTACT: Celeste Kinsey, District Ranger, 520-378-0311, celeste.kinsey@usda.gov. Individuals who use telecommunications devices for the hearing-impaired (TDD) may call the Federal Relay Service (FRS) at 1-800-877-8339, 24 hours a day, every day of the year, including holidays.

SUPPLEMENTARY INFORMATION:

I. Advance Notice and Public Comment Procedures

Section 4103 of the John D. Dingell, Jr., Conservation, Management, and Recreation Act (Pub. L. 116-9) requires that the Secretary of Agriculture, acting through the Chief of the Forest Service, provide public notice and comment before permanently or temporarily closing any National Forest System lands to hunting, fishing, or recreational shooting. Section 4103 applies to the proposed forest order closing areas in proximity to canyon roads on the eastern side of the Huachuca Mountains in the vicinity of the City of Sierra Vista, Fort Huachuca, and the communities of Hereford and Palominas, Arizona to recreational shooting, with the exception of hunting under Arizona state law. The public notice and comment process in section 4103(b)(2) requires the Secretary to publish an advance notice of intent, in the Federal Register, of the proposed closure in advance of the public comment period for the closure. This notice meets the requirement to publish a notice of intent in the Federal Register in advance of the public comment period. Following the notice of intent, section 4103(b)(2) requires an opportunity for public comment. Because the proposed forest order would permanently close areas in proximity to canyon roads on the eastern side of the Huachuca Mountains in the vicinity of the City of Sierra Vista, Fort Huachuca, and the communities of Hereford and Palominas, Arizona to recreational shooting, the public comment period must be not less than 60 days. Beginning on September 17, 2021, the Forest Service will accept public comments on the proposed order for 60 days. The notice of opportunity for public comment will be posted on the Coronado National Forest web page at https://www.fs.usda.gov/coronado/ and at the Forest Service's website at www.fs.usda.gov/about-agency/regulations-policies.

Section 4103(b)(2) requires the Forest Service to respond to public comments received on the proposed order before issuing a final order, including an explanation of how any significant issues raised by the comments were resolved and, if applicable, how resolution of those issues affected the proposed order or the justification for the proposed order. The response to comments on the proposed order, justification for the final order, and the issuance of the final forest order will all be posted on the Coronado National Forest web page at https://www.fs.usda.gov/coronado/ and at the Forest Service's website at www.fs.usda.gov/about-agency/regulations-policies.

II. Background and Need for Forest Order

This permanent recreational shooting closure is needed to address the potential for significant harm to human health and safety, the threat of wildfire resulting from ricocheting ammunition, as well as harm to wildlife habitat and vegetation resulting from the discharge of firearms in tight canyon areas within the Wildland Urban Interface, specifically, Ash, Lutz, Stump, Hunter, Miller, Carr, and Brown Canyons. Approximately 71,900 people live within close proximity to, or along, the National Forest boundary in the vicinity of these canyons, and this convenient access results in heavy forest use. The area that is proposed for closure to recreational shooting falls generally in multiple sections of Township 23 S., Range 20 E., and comprises all National Forest System lands within a quarter mile of all National Forest System roads (specifically, National Forest System Roads 5731, 59, 5720, 796, 4794, 367, 56, 4915, 4790, 4789, 368, and 5736), for a total closed area of approximately 5,090 acres, which is the minimum amount of acreage necessary to protect public health and safety.

The proposed forest order, map, and the justification for the forest order are available on the Coronado National Forest web page at https://www.fs.usda.gov/coronado/ and at the Forest Service's website at www.fs.usda.gov/about-agency/regulations-policies.

Dated: August 27, 2021.
Tina Johna Terrell,
Associate Deputy Chief, National Forest System.

[FR Doc. 2021-19521 Filed 9-9-21; 8:45 am]

BILLING CODE 3411-15-P